DEPARTMENT OF TRANSPORTATION

Federal Aviation Administration

14 CFR Part 39

[Docket No. FAA-2009-1148; Directorate Identifier 2009-SW-36-AD; Amendment 39-16185; AD 2010-03-02]

RIN 2120-AA64

Airworthiness Directives; Lifesavings Systems Corp., D-Lok Hook Assembly

AGENCY: Federal Aviation Administration (FAA), Department of Transportation (DOT).

ACTION: Final rule; request for comments.

SUMMARY: We are adopting a new airworthiness directive (AD) for the Lifesavings Systems Corp., D-Lok Hook assembly installed on certain rescue hoist assemblies. This AD results from a mandatory continuing airworthiness information (MCAI) AD issued by the European Aviation Safety Agency (EASA), which is the Technical Agent for the Member States of the European Community. The MCAI AD states that rescue hoist operators have reported surface irregularities and discontinuities on certain D-Lok Hooks because of an unapproved change in the hook design and manufacturing process from forged material to cast material that have different physical properties. The actions are intended to prevent failure of a hook during rescue hoist operations, loss of the rescued passenger, and subsequent serious injury or fatality.

DATES: This AD becomes effective on February 11, 2010.

We must receive comments on this AD by March 29, 2010.

ADDRESSES: You may send comments by any of the following methods:

• Federal eRulemaking Portal: Go to http://www.regulations.gov. Follow the instructions for submitting your comments electronically.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from Goodrich Corporation, Sensors and Integrated Systems, 1550 S. Valley Vista Dr., Diamond Bar, California 91765, telephone 1-909-569-0210, fax 1-909-569-0387; and from Breeze-Eastern Corporation, 700 Liberty Avenue, Union, NJ 07083-8198, telephone 1-908-686-4000, Ext. 3897 or 3890 or 1-800-929-1919 (toll free United States and Canada only), fax 1-908-688-6495, e-mail customerservice@breeze-eastern.com.

Examining the Docket: You may examine the AD docket on the Internet at http://www.regulations.gov or in person at the Docket Operations office between 9 a.m. and 5 p.m., Monday through Friday, except Federal holidays. The AD docket contains this AD, the economic evaluation, any comments received, and other information. The street address for the Docket Operations office (telephone (800) 647-5527) is stated in the ADDRESSES section of this AD. Comments will be available in the AD docket shortly after receipt.

FOR FURTHER INFORMATION CONTACT: DOT/FAA Southwest Region, Gary Roach, ASW-111, Aviation Safety Engineer, Rotorcraft Directorate, Regulations and Guidance Group, 2601 Meacham Blvd, Fort Worth, Texas 76137, telephone (817) 222-5130, fax (817) 222-5961.

SUPPLEMENTARY INFORMATION:

Discussion

EASA, which is the Technical Agent for the Member States of the European Community, has issued EASA AD No. 2009-0183-E, dated August 14, 2009, which is the latest of 4 MCAI ADs that have been issued, to correct an unsafe condition for certain helicopters with certain D-Lok Hook assemblies installed on Goodrich and Breeze-Eastern rescue hoists. The MCAI AD states that rescue hoist operators have reported surface irregularities and discontinuities on certain D-Lok Hooks because of an unapproved change in the hook design and manufacturing process from forged material to cast material that have different physical properties. The actions are intended to prevent failure of a hook during rescue hoist operations, loss of the rescued passenger, and subsequent serious injury or fatality.

You may obtain further information by examining the MCAI AD and any related service information in the AD docket.

Related Service Information

Goodrich has issued Service Bulletin (SB) 42315-489-01, Revision 1, dated June 5, 2009, and Breeze-Eastern Corporation has issued SB BLH-20200-504-25-01, dated June 12, 2009. These SBs were issued following the discovery of surface irregularities and discontinuities on D-Lok Hooks assemblies, part number (P/N) 410-A and 410-F, manufactured by Lifesaving Systems Corp., which are used on Goodrich and Breeze-Eastern rescue hoist assemblies. The SBs specify inspecting and removing all D-Lok hooks that have surface irregularities and discontinuities that exceed specified acceptable limits.

The actions described in the MCAI AD are intended to correct the same unsafe condition as that identified in the service information.

FAA's Evaluation and Unsafe Condition Determination

Agusta S.p.A. Model A109 series and AB139/AW139; Eurocopter Model AS332, AS350, AS355, SA-365, AS-365, EC 155 series, EC225LP; Eurocopter Deutschland GmbH Model EC135 and MBB-BK 117; and Sikorsky Aircraft Corporation S-61, S76, and S92 helicopters, all serial numbers; and other helicopters may have a rescue hoist assembly installed with a Lifesaving Systems Corp. D-Lok Hook Assembly with P/N 410-A or 410-F and lot number 208 or 1108. These hook assemblies were manufactured using a design and a manufacturing process using cast material instead of forged material, which was not approved by the FAA. Without FAA approval, these D-Lok hook assemblies, in addition to creating an unsafe condition, are not eligible for use in aircraft operating in the United States. Pursuant to our bilateral agreement with the member countries of the European Community, EASA has notified us of the unsafe condition described in the MCAI AD. We are issuing this AD because we evaluated all information provided by EASA and determined the unsafe condition exists and is likely to exist or develop on other products of these same type designs.

This AD requires, within 200 hoist lifts, unless already done, replacing each affected D-Lok Hook assembly with an airworthy hook assembly other than D-Lok Hook assembly, P/N 410-A or 410-F, lot number 208 or 1108.

Differences Between This AD and the MCAI AD

The latest MCAI AD requires a visual inspection to determine whether the affected hook assembly has surface irregularities and discontinuities that exceed certain manufacturer limits. If it is within limits, the MCAI AD requires replacing the D-Lok Hook within 30 days from July 11, 2009 or upon reaching 1000 lift cycles since installation of the affected hook, whichever occurs first. This AD does not require an inspection and requires replacing each affected D-Lok Hook within 200 hoist lifts. Also, the MCAI AD is limited to Agusta, Eurocopter, and Sikorsky helicopters, and this AD applies to all helicopters with a Lifesavings Systems Corp. D-Lock Hook Assembly, P/N 410-A or 410-F, lot number 208 or 1108, installed.

Costs of Compliance

We estimate that this AD will affect about 91 helicopters of U.S. registry. We also estimate that it will take about 1 work-hour per helicopter to replace each affected D-Lok Hook with an airworthy hook. The average labor rate is $80 per work-hour. Required parts will cost about $3000 per hoist. Based on these figures, we estimate the cost of this AD on U.S. operators will be $280,280, assuming all 91 helicopters have the D-Lok Hook replaced.

FAA's Determination of the Effective Date

An unsafe condition exists that requires the immediate adoption of this AD. We find that the risk to the flying public justifies waiving notice and comment prior to adopting this rule because of reports that the unapproved D-Lok Hooks have been found to have irregularities and discontinuities and if used to carry rescued passengers could lead to loss of the rescued passenger. Testing shows that the affected hooks could fail at 200 lifts. At least one operator involved in training exercises exceeds 200 lifts in a month, which is a short period of time. Therefore, we have determined that notice and opportunity for public comment before issuing this AD are impracticable and that good cause exists for making this amendment effective in fewer than 30 days.

Comments Invited

This AD is a final rule that involves requirements affecting flight safety, and we did not precede it by notice and opportunity for public comment. However, we invite you to send us any written data, views, or arguments concerning this AD. Send your comments to an address listed under the ADDRESSES section of this AD. Include “Docket No. FAA-2009-1148; Directorate Identifier 2009-SW-36-AD” at the beginning of your comments. We specifically invite comments on the overall regulatory, economic, environmental, and energy aspects of this AD. We will consider all comments received by the closing date and may amend this AD because of those comments.

We will post all comments we receive, without change, to http://www.regulations.gov including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on product(s) identified in this rulemaking action.

Regulatory Findings

We determined that this AD will not have federalism implications under Executive Order 13132. This AD will not have a substantial direct effect on the States, on the relationship between the national government and the States, or on the distribution of power and responsibilities among the various levels of government.

Therefore, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-03-02 Lifesaving Systems Corp.: Amendment 39-16185. Docket No. FAA-2009-1148; Directorate Identifier 2009-SW-36-AD.

Effective Date

(a) This airworthiness directive (AD) becomes effective on February 11, 2010.

Other Affected ADs

(b) None.

Applicability

(c) This AD applies to all helicopters, which have a rescue hoist assembly installed that contains a Lifesaving Systems Corp. D-Lok Hook assembly, part number (P/N) 410-A or 410-F, lot number 208 or 1108. These hooks are installed on but not limited to Goodrich Rescue Hoist Assembly P/N 42325-16-4, 42325-16-5, 44301-10 series, 44315-10, 44307-480, 44307-481, 44316-12-101, 44316-10-101, 42325-12 series, 42325-14 series, 44311-10 series, 712768-240-D 76370-140-D and 76378-260-D; and Breeze-Eastern Corporation Rescue Hoist Assembly, P/N BLH-20200-504 series.

Reason

(d) The mandatory continuing airworthiness information (MCAI) AD states that rescue hoist operators have reported surface irregularities and discontinuities on certain D-Lok Hooks supplied by Lifesaving Systems because of an unapproved change in the hook design and manufacturing process from forged material to cast material that have different physical properties. The actions are intended to prevent failure of a hook during rescue hoist operations, loss of the rescued passenger, and subsequent serious injury or fatality.

Actions and Compliance

(e) Within 200 hoist lifts, unless already done, replace each affected D-Lok Hook assembly with an airworthy hook assembly other than D-Lok Hook assembly, P/N 410-A or 410-F, lot number 208 or 1108.

Differences Between This AD and the MCAI AD

(f) The latest MCAI AD requires a visual inspection to determine whether the affected hook assembly has surface irregularities and discontinuities that exceed certain manufacturer limits. If it is within limits, the MCAI AD requires replacing the D-Lok Hook within 30 days from July 11, 2009, or upon reaching 1000 total lift cycles since installation of the affected lock, whichever occurs first. This AD does not require an inspection and requires replacing each affected D-Lok Hook within 200 lift cycles. Also, the MCAI AD is limited to Agusta, Eurocopter, and Sikorsky helicopters, and this AD applies to all helicopters with a Lifesavings Systems Corp. D-Lock Hook Assembly, P/N 410-A or 410-F, lot number 208 or 1108, installed.

Other Information

(g) Alternative Methods of Compliance (AMOCs): The Manager, Safety Management Group, ATTN: DOT/FAA Southwest Region, Gary Roach, ASW-111, Aviation Safety Engineer, Rotorcraft Directorate, Regulations and Guidance Group, 2601 Meacham Blvd, Fort Worth, Texas 76137, telephone (817) 222-5130, fax (817) 222-5961, has the authority to approve AMOCs for this AD, if requested using the procedures found in 14 CFR 39.19.

Related Information

(h) EASA MCAI AD No. 2009-0124, dated June 12, 2009; 2009-0148-E, dated July 9, 2009; 2009-0179-E, dated August 11, 2009; 2009-0183-E, dated August 14, 2009; and Goodrich Service Bulletin (SB) 42315-489-01, Revision 1, dated June 5, 2009 and Breeze-Eastern Corporation SB BLH-20200-504-25-01, dated June 12, 2009, contain related information.

Joint Aircraft System/Component (JASC) Code

(i) JASC Code 2520: Passenger Compartment Equipment.

Dated: Issued in Fort Worth, Texas, on January 20, 2010.
Mark R. Schilling,
Acting Manager, Rotorcraft Directorate, Aircraft Certification Service.

[FR Doc. 2010-1518 Filed 1-26-10; 8:45 am]

BILLING CODE 4910-13-P